NUCLEAR REGULATORY COMMISSION

10 CFR Part 72

RIN 3150-AH86

List of Approved Fuel Storage Casks: FuelSolutionsTM Revision 4, Confirmation of Effective Date

AGENCY: Nuclear Regulatory Commission.

ACTION: Direct final rule: Confirmation of effective date.

SUMMARY: The Nuclear Regulatory Commission (NRC) is confirming the effective date of July 3, 2006, for the direct final rule that was published in the Federal Register on April 18, 2006 (71 FR 19806). This direct final rule amended the NRC's regulations to revise the BNG Fuel Solutions Corporation (FuelSolutions™) cask system listing to include Amendment No. 4 to Certificate of Compliance (CoC) No. 1026.

DATES: Effective Date: The effective date of July 3, 2006, is confirmed for this direct final rule.

ADDRESSES: Documents related to this rulemaking, including comments received, may be examined at the NRC Public Document Room, located at One White Flint North, 11555 Rockville Pike, Rockville, MD 20852. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Jayne M. McCausland, Office of Nuclear Material Safety and Safeguards, U.S. Nuclear Regulatory Commission, Washington, DC 20555, telephone (301) 415-6219, e-mail jmm2@nrc.gov.

SUPPLEMENTARY INFORMATION: On April 18, 2006 (71 FR 19806), the NRC published a direct final rule amending its regulations in 10 CFR Part 72 to revise the FuelSolutions™ cask system listing within the “List of Approved Spent Fuel Storage Casks” to include Amendment No. 4 to CoC No. 1026. This amendment revises the Technical Specifications related to periodic monitoring during storage operations to permit longer surveillance intervals for casks with heat loads lower than the design basis heat load and to permit visual inspection of the cask vent screens or measurement of the cask liner temperature. In the direct final rule, NRC stated that if no significant adverse comments were received, the direct final rule would become final on July 3, 2006. The NRC did not receive any comments that warranted withdrawal of the direct final rule. Therefore, this rule will become effective as scheduled.

Dated at Rockville, Maryland, this 13th, day of June, 2006.
For the Nuclear Regulatory Commission.
Michael T. Lesar,
Chief, Rules and Directives Branch, Division of Administrative Services, Office of Administration.

[FR Doc. E6-9565 Filed 6-16-06; 8:45 am]

BILLING CODE 7590-01-P